DEPARTMENT OF JUSTICE

Antitrust Division

Notice Pursuant to the National Cooperative Research and Production Act of 1993; International Association of Plumbing and Mechanical Officials

Notice is hereby given that, on July 9, 2015, pursuant to Section 6(a) of the National Cooperative Research and Production Act of 1993, 15 U.S.C. 4301 et seq. (“the Act”), International Association of Plumbing and Mechanical Officials (“IAPMO”) has filed written notifications simultaneously with the Attorney General and the Federal Trade Commission disclosing additions or changes to its standards development activities. The notifications were filed for the purpose of extending the Act's provisions limiting the recovery of antitrust plaintiffs to actual damages under specified circumstances. Specifically, the nature and scope of IAPMO's standards development activities now includes: To provide minimum requirements to optimize water use practices attributed to the built environment while maintaining protection of the public health, safety, and welfare.

On September 14, 2004, IAPMO filed its original notification pursuant to Section 6(a) of the Act. The Department of Justice published a notice in the Federal Register pursuant to Section 6(b) of the Act on November 29, 2004 (69 FR 69396).

The last notification was filed with the Department on March 11, 2013. A notice was published in the Federal Register pursuant to Section 6(b) of the Act on March 28, 2013 (78 FR 19009).

Patricia A. Brink,
Director of Civil Enforcement, Antitrust Division.

[FR Doc. 2015-21032 Filed 8-24-15; 8:45 am]

BILLING CODE 4410-11-P